DEPARTMENT OF DEFENSE

Department of the Army; Corps of Engineers

Notice of Intent To Prepare a Draft Environmental Impact Statement for Potential Multipurpose Projects for Ecosystem Restoration, Flood Damage Reduction, and Recreation Development Within and Along the Clear and West Forks of the Trinity River in Fort Worth, Tarrant County, TX

AGENCY: Department of the Army, U.S. Army Corps of Engineers, DoD.

ACTION: Notice; amendment.

SUMMARY: The Fort Worth District, U.S. Army Corps of Engineers hereby announces its intent to modify the study area to be evaluated during the preparation of a Draft Environmental Impact Statement (DEIS) for the potential multipurpose projects for ecosystem restoration, flood damage reduction, and recreation development within and along the portion of the Trinity River located in Forth Worth, Tarrant County, TX, as published in the Federal Register on October 14, 2002 (67 FR 63900).

A resolution by the United States Senate Committee on Environment and Public Works dated April 22, 1988, requested that the Board of Engineers review the report of the Chief of Engineers on the Trinity River and Tributaries, Texas, House Document No. 276, Eighty-Ninth Congress, and other pertinent reports, with a view to determining the advisability of modifying the recommendations contained therein, with particular reference to providing improvements in the interest of flood protection, environmental enhancement, water quality, recreation, and other allied purposes in the Upper Trinity River Basin with specific attention on the Dallas-Fort Worth Metroplex. An initial assessment based on the resolution guidance indicates a Federal interest in continuing with more detailed studies for these purposes and in accordance with the National Environmental Policy Act (NEPA), the public was informed in October 2002 of the intent to prepare a DEIS. The notice identified a study area that was bound by Interstate Highway 30 on the Clear Fork, Rockwood Park on the upstream end of the West Fork, Northeast 28th Street on Marine Creek, a tributary of the West Fork, and Riverside Drive on the downstream end of the West Fork.

A public scoping and project studies have progressed, it has been determined that the study area for consideration of project purposes should be expanded further upstream of Rockwood Park on the West Fork of the Trinity River to include the additional area between Rockwood Park and U. S. Highway 183 (approximately 793 acres). Studies of the expanded area will concentrate on identifying new plans to evaluate flood damage reduction potential and/or prevent future damages through establishing hydraulic and hydrologic mitigation through new and creative methodologies that reduce environmental impact and provide for improved aesthetic properties. Expansion of the study area also provides opportunities for ecosystem restoration, including increased connectivity of existing high resource value environmental and recreational opportunities between isolated natural resource bases along the study area.

FOR FURTHER INFORMATION CONTACT: Dr. Rebecca Griffith, CESWF-PER-P, U.S. Army Corps of Engineers, Fort Worth District, P.O. Box 17300, 819 Taylor Street, Fort Worth, TX 76102-0300, phone (817) 886-1820, fax (817) 886-6498.

SUPPLEMENTARY INFORMATION: No additional public meetings have been scheduled as a result of the decision to expand the study area, as public participation during the process was a factor in determining to expand the study area. However, all affected Federal, state, and local agencies, affected Indian tribes, and other interested private organizations and parties are hereby invited to provide scoping comments that should be considered during the remainder of the feasibility study. The public will be given the opportunity to review the DEIS during the 45-day public comment period. Prior to the close of the comment period, any person may make a written request for a public meeting, setting forth the particular reasons for the request. The District Engineer will then determine whether the issues raised are substantial and should be considered in his decision. If a public meeting is warranted, all known interested parties will be notified of the time, date, and location of such a meeting in the local news media. Release of the DEIS for public comment is scheduled for March 2005. The exact release date, once established, will be announced in the local news media.

Dated: October 14, 2004.
John R. Minahan,
Colonel, Corps of Engineers, Commanding.

[FR Doc. 04-23681 Filed 10-21-04; 8:45 am]

BILLING CODE 3710-20-M